INTERNATIONAL TRADE COMMISSION

[Investigations Nos. 701-TA-426 and 731-TA-984-985 (Final)]

Sulfanilic Acid From Hungary and Portugal

Determinations

On the basis of the record ¹ developed in the subject investigations, the United States International Trade Commission determines, pursuant to sections 705(b) and 735(b) of the Tariff Act of 1930 (19 U.S.C. 1671d(b) and 1673d(b)) (the Act), that an industry in the United States is materially injured by reason of imports from Hungary of sulfanilic acid, provided for in subheadings 2921.42.22 and 2921.42.90 of the Harmonized tariff Schedule of the United States, that have been found by the Department of Commerce to be subsidized by the Government of Hungary, and by reason of imports of sulfanilic acid from Hungary and Portugal that have been found by the Department of Commerce to be sold in the United States at less than fair value (LTFV).

¹ The record is defined in sec. 207.2(f) of the Commission's Rules of Practice and Procedure (19 CFR § 207.2(f)).

Background

The Commission instituted these investigations effective September 28, 2001, following receipt of a petition filed with the Commission and Commerce by National Ford Chemical Co. of Fort Mill, SC. The final phase of the investigations was scheduled by the Commission following notification of preliminary determinations by Commerce that imports of sulfanilic acid from Hungary were being subsidized within the meaning of section 703(b) of the Act (19 U.S.C. 1671b(b)) and that imports of sulfanilic acid from Hungary and Portugal were being sold at LTFV within the meaning of section 733(b) of the Act (19 U.S.C. § 1673b(b)). Notice of the scheduling of the final phase of the Commission's investigations and of a public hearing to be held in connection therewith was given by posting copies of the notice in the Office of the Secretary, U.S. International Trade Commission, Washington, DC, and by publishing the notice in the Federal Register of May 21, 2002 (67 FR 35832).² The hearing was held in Washington, DC, on September 24, 2002, and all person who requested the opportunity were permitted to appear in person or by counsel.

² A revised final phase schedule was published in the Federal Register of June 6, 2002 (67 FR 39041).

The Commission transmitted its determination in these investigations to the Secretary of Commerce on November 1, 2002. The views of the Commission are contained in USITC Publication 3554 (November 2002), entitled Sulfanilic Acid from Hungary and Portugal: Investigations Nos. 701-TA-426 and 731-TA-984-985 (Final).

Issued: November 1, 2002.
By order of the Commission.
Marilyn R. Abbott,
Secretary to the Commission.

[FR Doc. 02-28220 Filed 11-5-02; 8:45 am]

BILLING CODE 7020-02-P